DEPARTMENT OF TRANSPORTATION

Federal Aviation Administration

14 CFR Part 71

[Docket No. FAA-2005-20699; Airspace Docket No. 04-ASO-19]

RIN 2120-AA66

Establishment of Area Navigation Instrument Flight Rules Terminal Transition Routes (RITTR); Cincinnati, OH

AGENCY: Federal Aviation Administration (FAA), DOT.

ACTION: Final rule.

SUMMARY: This action establishes three Area Navigation Instrument Flight Rules Terminal Transition Routes (RITTR) in the Cincinnati, OH, terminal area. The FAA originally proposed to establish four routes as part of this action, but one route (T-212) was deleted because it did not meet RITTR design criteria and its short length would provide limited benefits. RITTR's are low altitude Air Traffic Service (ATS) routes, based on Area Navigation (RNAV), for use by aircraft having Instrument Flight Rules (IFR)-approved Global Positioning System (GPS)/Global Navigation Satellite System (GNSS) equipment. The FAA is taking this action to enhance safety and facilitate the more flexible and efficient use of the navigable airspace in the Cincinnati terminal area.

EFFECTIVE DATE: 0901 UTC, December 22, 2005.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On July 6, 2005, the FAA published in the Federal Register a notice of proposed rulemaking to establish four RITTR's in the Cincinnati, OH, terminal area (70 FR 38826). Interested parties were invited to participate in this rulemaking effort by submitting written comments on this proposal to the FAA. Two comments were received in response to the NPRM.

Analysis of Comments

The Aircraft Owners and Pilots Association wrote in support of the proposal. The second commenter expressed general support for the concept of terminal transition routes to assist IFR traffic transitioning Class B airspace, but stated that the proposed Cincinnati RITTRs do not accomplish this, and that IFR traffic (usually general aviation flights) would continue to be forced to make long detours around the Class B airspace. The commenter recommended that the FAA design transition routes that extend diagonally (northwest to southeast and southwest to northeast) across the Cincinnati/Northern Kentucky International Airport (CVG) Class B airspace area. The FAA responds that these RITTRs are part of the initial steps in providing RNAV-based alternative routes through Class B airspace at major airports. A number of factors were considered in the design of the Cincinnati RITTRs, including current arrival and departure traffic patterns at CVG, general aviation traffic flows transitioning the area, and chart clutter. The proposed RITTRs do provide more direct alternative routes than are currently available via the Federal airway structure in the CVG terminal area. As operational experience is gained with the RITTR program, refinements to the route structure will be made where needed. While the FAA is not adding additional CVG RITTRs at this time, it will consider the recommendation for additional CVG RITTRs in future en route and terminal area NAS efficiency reviews.

Discussion

In reviewing the configuration of the proposed RITTRs, the FAA determined that several adjustments to the routes as proposed in the NPRM are required. One of the design criteria for RITTRs specifies that the routes must begin and end at a fix or navigation aid located on the existing Federal airway structure. The purpose of this requirement is to provide connectivity between the RITTR and the low altitude en route structure to enhance the expeditious movement of suitably equipped en route IFR aircraft through or around a Class B airspace area. The proposed routes T-212, T-215, and T-217 did not fully meet this criteria. As a result, the following corrective action is being taken in this rule. Proposed route T-212 is withdrawn. It was determined that, due to the short length of route T-212 (less than 15 miles), the route would be of minimal usefulness to the National Airspace System (NAS). To remedy the problem with the other two routes, the FAA is making the following changes. Route T-215, as proposed, extended between the Lexington, KY, (HYK) very high frequency omnidirectional range/tactical air navigation (VORTAC) and the new GAMKE, IN, waypoint (WP). However, the proposed GAMKE WP is not located on the airway structure. Therefore, GAMKE will be relocated slightly south of its proposed position to place it on existing Federal Airway V-47. This rule adjusts the GAMKE latitude and longitude coordinates to reflect the change. This change will bring route T-215 into compliance with the design criteria.

Similarly, route T-217 does not meet the design criteria because one of its end points, the Springfield, OH, (SGH) very high frequency omnidirectional range/distance measuring equipment (VOR/DME) is not a part of the airway structure. To remedy this discrepancy, route T-217 will be extended north of SGH to the existing BONEE fix, which is located on Federal Airway V-12. In addition, a minor realignment of T-217 will be made to the south of SGH to cross the existing PRUDE, OH, fix, which is located on V-5. This will insert two additional links to the VOR Federal airway structure in the T-217 description.

Finally, in the NPRM, the BOSTR, HEDEN, and MILAN points were identified as WPs. These points are actually existing charted “fixes,” therefore an editorial change to the affected route descriptions is being made in this rule to replace “WP” with “fix.”

With the exception of editorial changes, and the changes discussed above, this amendment is the same as that proposed in the notice.

Low altitude Area Navigation Routes are published in paragraph 6011 of FAA Order 7400.9N dated September 1, 2005 and effective September 15, 2005, which is incorporated by reference in 14 CFR 71.1. The routes listed in this document will be published subsequently in the order.

The Rule

This action amends Title 14 Code of Federal Regulations (14 CFR) part 71 by establishing three RITTRs, designated T-213, T-215, and T-217, in the CVG terminal area. These routes will be depicted in blue on the appropriate IFR en route low altitude charts. RITTRs are low altitude RNAV routes designed to facilitate the expeditious movement of IFR overflight traffic around or through certain congested terminal airspace areas. The routes may be used by GNSS-equipped aircraft that are capable of filing flight plan equipment suffix “/G.” The FAA is taking this action to enhance safety and facilitate the more flexible and efficient use of the navigable airspace for en route IFR aircraft transitioning through the CVG Class B airspace area.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by Reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6011—Area Navigation Routes

* * * * *

T-213 Louisville, KY to Richmond, IN [New]

Louisville, KY (IIU)

VORTAC

(Lat. 38°06′13″ N., long. 85°34′39″ W.)

GAMKE, IN

WP

(Lat. 38°46′13″ N., long. 85°14′35″ W.)

MILAN, IN

Fix

(Lat. 39°21′22″ N., long. 85°19′01″ W.)

Richmond, IN (RID)

VORTAC

(Lat. 39°45′18″ N., long. 84°50′20″ W.)

* * * * *

T-215 Lexington, KY to GAMKE, IN [New]

Lexington, KY (HYK)

VORTAC

(Lat. 37°57′59″ N., long. 84°28′21″ W.)

GAMKE, IN

WP

(Lat. 38°46′13″ N., long. 85°14′35″ W.)

* * * * *

T-217 Lexington, KY to BONEE, OH [New]

Lexington, KY (HYK)

VORTAC

(Lat. 37°57′59″ N., long. 84°28′21″ W.)

BOSTR, OH

Fix

(Lat. 38°53′08″ N., long. 84°04′58″ W.)

HEDEN, OH

Fix

(Lat. 39°16′45″ N., long. 84°02′02″ W.)

PRUDE, OH

Fix

(Lat. 39°25′45″ N., long. 83°56′59″ W.)

Springfield, OH (SGH)

VOR/DME

(Lat. 39°50′12″ N., long. 83°50′42″ W.)

BONEE, OH

Fix

(Lat. 40°03′09″ N., long. 83°56′56″ W.)

* * * * *

Issued in Washington, DC on October 19, 2005.
Edith V. Parish,
Acting Manager, Airspace and Rules.

[FR Doc. 05-21318 Filed 10-25-05; 8:45 am]

BILLING CODE 4910-13-P